FEDERAL COMMUNICATIONS COMMISSION

[3060-1200]

Information Collection Approved by the Office of the Management and Budget (OMB)

AGENCY: Federal Communications Commission.

ACTION: Notice.

SUMMARY: The Federal Communications Commission has received Office of Management and Budget (OMB) emergency approval, for a period of six months, of the information collection requirements under control number 3060-1200, as required by the Paperwork Reduction Act (PRA) of 1995 (44 U.S.C. 3501-3520). An agency may not conduct or sponsor a collection of information unless it displays a currently valid OMB control number, and no person is required to respond to a collection of information unless it displays a currently valid OMB control number. Comments concerning the accuracy of the burden estimates and any suggestions for reducing the burden should be directed to the person listed in the FOR FURTHER INFORMATION CONTACT section below.

FOR FURTHER INFORMATION CONTACT: For additional information contact, Mikelle Bonan, Telecommunications Access Policy Division, Wireline Competition Bureau, Federal Communications Commission, at (202) 418-7151 or via Internet at Mikelle.Bonan@fcc.gov.

SUPPLEMENTARY INFORMATION:

OMB Control Number: 3060-1200.

OMB Approval Date: September 18, 2014.

OMB Expiration Date: March 31, 2015.

Title: Application to Participate in Rural Broadband Experiments and Post-Selection Review of Rural Broadband Experiment Winning Bidders.

Form Numbers: FCC Forms 5610 and 5620.

Respondents: Business or other for-profit, and not-for-profit institutions.

Number of Respondents and Responses: 500 respondents; 520 responses.

Estimated Time per Response: 5-10 hours.

Frequency of Response: One time and on occasion reporting requirements.

Total Annual Burden: 2,700 hours.

Total Annual Cost: No cost(s).

Obligation to Respond: Required to obtain or retain benefits. Statutory authority for this information collection is contained in 47 U.S.C. 151-154 and 254.

Privacy Act Impact Assessment: No impact(s).

Nature and Extent of Confidentiality: Information collected in FCC Form 5610 will be confidential until winning applicants are announced. At that time, the proposals submitted by winning applicants will be made publicly available. All other proposals submitted will remain confidential. Information collected in FCC Form 5620 will be confidential.

Needs and Uses: Under this information collection, the Commission proposes to collect information to determine applicants that will be selected to participate in the rural broadband experiments and whether winning bidders are technically and financially capable of receiving funding for rural broadband experiment projects. To aid in collecting this information regarding the rural broadband experiments, the Commission has created FCC Form 5610 and FCC Form 5620, which applicants use to submit the most-cost effective proposals in each funding category and winning bidders use to demonstrate that they have the technical and financial qualifications to successfully complete the proposed project within the required timeframes. These forms will be available electronically through the Internet, and electronic filing will be required.

The Communications Act of 1934, as amended requires the “preservation and advancement of universal service.” The information collection requirements reported under this new collection are the result of various Commission actions to promote the Act's universal service goals, while minimizing waste, fraud, and abuse.

Federal Communications Commission.
Marlene H. Dortch,
Secretary.

[FR Doc. 2014-24434 Filed 10-14-14; 8:45 am]

BILLING CODE 6712-01-P